DEPARTMENT OF ENERGY

Federal Energy Regulatory Commission

Combined Notice of Filings #1

Take notice that the Commission received the following electric corporate filings:

Docket Numbers: EC22-47-000.

Applicants: Berkshire Hathaway Inc.

Description: Supplement to March 21, 2022 Application for Authorization Under Section 203 of the Federal Power Act of Berkshire Hathaway Inc.

Filed Date: 4/11/22.

Accession Number: 20220411-5197.

Comment Date: 5 p.m. ET 4/21/22.

Docket Numbers: EC22-52-000.

Applicants: Hallador Power Company, LLC.

Description: Application for Authorization Under Section 203 of the Federal Power Act of Hallador Power Company, LLC.

Filed Date: 4/11/22.

Accession Number: 20220411-5199.

Comment Date: 5 p.m. ET 5/2/22.

Take notice that the Commission received the following Complaints and Compliance filings in EL Dockets:

Docket Numbers: EL22-51-000.

Applicants: King Mountain Upton Wind, LLC.

Description: Petition for Declaratory Order of [King Mountain Upton Wind, LLC].

Filed Date: 4/5/22.

Accession Number: 20220405-5210.

Comment Date: 5 p.m. ET 5/5/22.

Take notice that the Commission received the following electric rate filings:

Docket Numbers: ER17-1821-004.

Applicants: Panda Stonewall LLC.

Description: Refund Report: Potomac Energy Center, LLC submits tariff filing per 35.19a(b): Refund Report to be effective N/A.

Filed Date: 4/12/22.

Accession Number: 20220412-5042.

Comment Date: 5 p.m. ET 5/3/22.

Docket Numbers: ER21-1005-003.

Applicants: Montana-Dakota Utilities Co.

Description: Compliance filing: Reactive Service Rate Schedule Compliance Filing to be effective 4/1/2021.

Filed Date: 4/12/22.

Accession Number: 20220412-5109.

Comment Date: 5 p.m. ET 5/3/22.

Docket Numbers: ER22-1008-002.

Applicants: AEP Texas Inc.

Description: Tariff Amendment: AEPTX-ETT (Salvare) First Amended and Restated Facilities Development Agreement to be effective 1/27/2022.

Filed Date: 4/12/22.

Accession Number: 20220412-5056.

Comment Date: 5 p.m. ET 5/3/22.

Docket Numbers: ER22-1610-000.

Applicants: Big River Solar, LLC.

Description: Baseline eTariff Filing: Reactive Power Compensation Filing to be effective 6/11/2022.

Filed Date: 4/12/22.

Accession Number: 20220412-5023.

Comment Date: 5 p.m. ET 5/3/22.

Docket Numbers: ER22-1611-000.

Applicants: Public Service Company of Colorado.

Description: § 205(d) Rate Filing: 2022-04-12 Mosca to San Luis 115kV—678—Concurrence to be effective 2/25/2022.

Filed Date: 4/12/22.

Accession Number: 20220412-5025.

Comment Date: 5 p.m. ET 5/3/22.

Docket Numbers: ER22-1612-000.

Applicants: Central Maine Power Company.

Description: § 205(d) Rate Filing: Second Amendment to Sappi North America, Inc. Interconnection Agreement to be effective 12/31/9998.

Filed Date: 4/12/22.

Accession Number: 20220412-5037.

Comment Date: 5 p.m. ET 5/3/22.

Docket Numbers: ER22-1613-000.

Applicants: Tri-State Generation and Transmission Association, Inc.

Description: § 205(d) Rate Filing: Amendment to Rate Schedule FERC No. 72 to be effective 6/13/2022.

Filed Date: 4/12/22.

Accession Number: 20220412-5104.

Comment Date: 5 p.m. ET 5/3/22.

Docket Numbers: ER22-1614-000.

Applicants: PJM Interconnection, L.L.C.

Description: § 205(d) Rate Filing: Amendment to WMPA, SA No. 5875; Queue No. AE2-129 (amend) to be effective 12/3/2020.

Filed Date: 4/12/22.

Accession Number: 20220412-5125.

Comment Date: 5 p.m. ET 5/3/22.

Docket Numbers: ER22-1615-000.

Applicants: PJM Interconnection, L.L.C.

Description: Tariff Amendment: Notice of Cancellation of ICSA, SA No. 5551; Queue No. AB2-047 re: complete to be effective 10/30/2020.

Filed Date: 4/12/22.

Accession Number: 20220412-5153.

Comment Date: 5 p.m. ET 5/3/22.

Docket Numbers: ER22-1616-000.

Applicants: PJM Interconnection, L.L.C.

Description: § 205(d) Rate Filing: Original WMPA, Service Agreement No. 6423; Queue No. AG1-197 to be effective 3/14/2022.

Filed Date: 4/12/22.

Accession Number: 20220412-5165.

Comment Date: 5 p.m. ET 5/3/22

Docket Numbers: ER22-1617-000.

Applicants: American Electric Power Service Corporation, Ohio Power Company, PJM Interconnection, L.L.C.

Description: § 205(d) Rate Filing: American Electric Power Service Corporation submits tariff filing per 35.13(a)(2)(iii: AEP submits four Facilities Agreements re: ILDSA, SA No. 1336 to be effective 6/12/2022.

Filed Date: 4/12/22.

Accession Number: 20220412-5168.

Comment Date: 5 p.m. ET 5/3/22.

Take notice that the Commission received the following public utility holding company filings:

Docket Numbers: PH22-9-000.

Applicants: New Jersey Resources Corporation.

Description: New Jersey Resources Corporation submits FERC 65-A Exemption Notification.

Filed Date: 4/8/22.

Accession Number: 20220408-5272.

Comment Date: 5 p.m. ET 4/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2022.
Debbie-Anne A. Reese,
Deputy Secretary.

[FR Doc. 2022-08239 Filed 4-15-22; 8:45 am]

BILLING CODE 6717-01-P